ENVIRONMENTAL PROTECTION AGENCY

40 CFR Part 261

[SW-FRL-7816-8]

Hazardous Waste Management System; Identification and Listing of Hazardous Waste; Withdrawal

AGENCY: Environmental Protection Agency.

ACTION: Withdrawal of proposed rule.

SUMMARY: Environmental Protection Agency (EPA) is withdrawing its proposed rule to grant a petition submitted by Teris, LLC to exclude (or delist) a certain incineration ash generated by its El Dorado, AR Plant from the lists of hazardous wastes in the Resource Conservation and Recovery Act. This notice removes the proposed rule published in 68 FR 55206 (September 23, 2003) for public review and comment. Several comments were received on this proposed rule, which highlighted gaps in the data presented by EPA. The Agency acknowledges these deficiencies. Teris withdrew its petition until such time as these deficiencies can be addressed. No further action on the proposed rule will be taken.

FOR FURTHER INFORMATION CONTACT: Michelle Peace by mail at U.S. EPA Region 6, Multimedia Planning and Permitting Division, Corrective Action and Waste Minimization Section (6PD-C), 1445 Ross Avenue, Dallas, TX 75202, or by phone at (214) 665-7430 or by email at peace.michelle@epa.gov.

SUPPLEMENTARY INFORMATION: On September 23, 2003, 68 FR 55206, EPA proposed to approve an exclusion from the list of hazardous wastes for Teris, LLC. We subsequently received several adverse comments which highlighted several deficiencies in the data submitted by Teris. Teris withdrew its petition submitted, June 5, 2002 on August 13, 2004, until the areas of concern and data gaps can be addressed. No further action will be taken on this petition.

List of Subjects in 40 CFR Part 261

Environmental protection, Hazardous waste, Recycling, Reporting and recordkeeping requirements.

Authority: Sec. 3001(f) RCRA, 42 U.S.C. 6921 (f).

Dated: September 9, 2004.
Carl Edlund,
Division Director, Multimedia Planning and Permitting Division, Region 6.

[FR Doc. 04-21181 Filed 9-20-04; 8:45 am]

BILLING CODE 6560-50-P